DEPARTMENT OF TRANSPORTATION

Federal Aviation Administration

14 CFR Part 71

[Docket No. FAA-2012-0867; Airspace Docket No. 12-AGL-4]

RIN 2120-AA66

Modification of VOR Federal Airway V-170 in the Vicinity of Devils Lake, ND

AGENCY: Federal Aviation Administration (FAA), DOT.

ACTION: Final rule.

SUMMARY: This action modifies VHF Omnidirectional Range (VOR) Federal airway V-170 between Devils Lake, ND (DVL), and Jamestown, ND (JMS). The FAA is taking this action to ensure the airway between DVL and JMS has the necessary clearance from the western boundary of the newly established restricted area R-5402, Devils Lake, ND, to support non-radar separation requirements when the restricted area is active.

DATES: Effective date 0901 UTC, March 7, 2013. The Director of the Federal Register approves this incorporation by reference action under 1 CFR part 51, subject to the annual revision of FAA Order 7400.9 and publication of conforming amendments.

FOR FURTHER INFORMATION CONTACT: Colby Abbott, Airspace Policy & ATC Procedures Group, Office of Airspace Services, Federal Aviation Administration, 800 Independence Avenue SW., Washington, DC 20591; telephone: (202) 267-8783.

SUPPLEMENTARY INFORMATION:

History

On Thursday, September 6, 2012, the FAA published in the Federal Register a notice of proposed rulemaking to amend VOR Federal airway V-170 by inserting a slight “dogleg,” to the west, between DVL and JMS to provide the required non-radar separation and airway clearance from the newly established R-5402, Devils Lake, ND (77 FR 54860). Interested parties were invited to participate in this rulemaking effort by submitting written comments on the proposal to the FAA. One comment was received, which raised two concerns and offered two alternative recommendations for consideration.

The first concern was that the FAA was pursuing the proposed airway modification to address a conflict with a newly established restricted area (R-5402), which is activated by NOTAM only with no charted or designated times of use.

The FAA does not agree. The rule establishing R-5402 listed the time of designation as “0700-2000 daily, by NOTAM 6-hours in advance; other times by NOTAM.” The time of designation for the restricted area provides specified hours that reflect the core hours of when training operations are expected to occur, supplemented with the requirement of a NOTAM 6-hours prior to activation of the restricted area to provide additional awareness to non-participating pilots. Additionally, the R-5402 time of designation information is contained in the following products: the IFR en route charts (L-13 and L-14); the FAA Notices to Airmen Publication (NTAP), Part 4, Graphical Notices, Section 2, Special Military Operation; the North Central U.S. Airport/Facility Directory (AFD) as an Aeronautical Chart Bulletin (Twin Cities Sectional section); and on the FAA's Special Use Airspace web page (http://sua.faa.gov/sua/siteFrame.app). Lastly, the FAA placed a Safety Alert notice of the new restricted area on the Aeronautical Navigation Products' Web site and distributed the notice to customers that subscribe to the Twin Cities Sectional Chart.

The second concern was that a modified V-170 airway segment would result in greater track miles, regardless of the activation status of R-5402. Furthermore, the commenter stated that if R-5402 is not activated, non-participating pilots would be forced to request direct routing between DVL and JMS in lieu of flying the dogleg and the additional miles.

The FAA acknowledges that inserting a dogleg to V-170 between DVL-JMS would increase the track miles flown, but it only adds three nautical miles to the track distance. When the Minneapolis Air Route Traffic Control Center performed the traffic analysis of R-5402 impacts to V-170, it found that an average of four aircraft per day filed Instrument Flight Rules (IFR) flight plans for the airway. The FAA concluded that the restricted area's impact to V-170 to be minimal when balanced against reducing system complexity, enhancing safety, and maximizing airspace access to all users of the NAS. When R-5402 is not scheduled for activation, pilots have the option to file direct DVL-JMS, incurring no extra mileage. Additionally, pilots may also receive in-flight updates as to the restricted area status, and proceed direct DVL to JMS, if approved by air traffic control.

The commenter recommended that the FAA consider establishing a global positioning system (GPS) waypoint that air traffic controllers could use to clear IFR aircraft to in lieu of amending V-170. Alternatively, the commenter offered that the FAA could establish a T-route, in addition to V-170, that would maintain appropriate separation from R-5402.

The FAA notes that amending V-170, as proposed, offers a standard navigation capability today, independent of aircraft equipage, and provides the greatest airspace access between DVL and JMS to the largest number of users. While eventually there may be airspace and navigational service upgrades to this part of the country, such changes should occur as part of comprehensive, structured process and plan. For now, the greatest level of safety and efficiency in the vicinity of this area that has poor low altitude radar coverage and known winter weather hazards, is to modify the existing airway.

The Rule

This action amends Title 14 Code of Federal Regulations (14 CFR) part 71 by modifying V-170 between Devils Lake, ND, and Jamestown, ND, due to the airway overlapping the western boundary of R-5402 when it is active.

To retain the availability of the navigation route structure between DVL and JMS, V-170 is modified by replacing the existing airway segment with a new segment containing a slight dogleg extending westward of the current location. The DVL VOR 187° and JMS VOR 337° radials redefine the new airway segment and establish the FARRM fix at the intersection of the radials. The FARRM fix is described as the intersection of those navigation aid radials in the legal description.

Specifically, the V-170 description is amended by replacing the “Jamestown, ND;” reference with “INT Devils Lake 187° and Jamestown, ND, 337° radials; Jamestown.” This modification to V-170 adds less than three nautical miles to the existing airway segment, ensures availability of V-170 between DVL and JMS regardless of the status of R-5402, reduces airspace complexity in the area, and enhances flight safety.

VOR Federal airways are published in paragraph 6010(a) of FAA Order 7400.9W dated August 8, 2012 and effective September 15, 2012, which is incorporated by reference in 14 CFR 71.1. The VOR Federal Airway listed in this document would be subsequently published in the Order.

The FAA has determined that this regulation only involves an established body of technical regulations for which frequent and routine amendments are necessary to keep them operationally current. Therefore, this regulation: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies a VOR Federal airway in the vicinity of Devils Lake, ND.

Environmental Review

The FAA has determined that this action qualifies for categorical exclusion under the National Environmental Policy Act in accordance with FAA Order 1050.1E, Environmental Impacts: Policies and Procedures, paragraph 311a. This airspace action consist of a modification of an existing airway and is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9W, Airspace Designations and Reporting Points, dated August 8, 2012, and effective September 15, 2012, is amended as follows:

Paragraph 6010(a)—Domestic VOR Federal Airways

* * * * *

V-170 [Amended]

From Devils Lake, ND; INT Devils Lake 187° and Jamestown, ND, 337° radials; Jamestown; Aberdeen, SD; Sioux Falls, SD; Worthington, MN; Fairmont, MN; Rochester, MN; Nodine, MN; Dells, WI; INT Dells 097° and Badger, WI, 304° radials; Badger; INT Badger 121° and Pullman, MI, 282° radials; Pullman; Salem, MI. From Erie, PA; Bradford, PA; Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded.

Issued in Washington, DC, on December 6, 2012.
Gary A. Norek,
Manager, Airspace Policy & ATC Procedures Group.

[FR Doc. 2013-00288 Filed 1-7-13; 11:15 am]

BILLING CODE 4910-13-P